DEPARTMENT OF JUSTICE

[OMB Number 1121-0098]

Agency Information Collection Activities; Proposed eCollection eComments Requested; Reinstatement, With Change, of a Previously Approved Collection for Which Approval Has Expired; Survey of Inmates in Local Jails

AGENCY: Bureau of Justice Statistics, Department of Justice.

ACTION: 60-Day notice.

SUMMARY: The Bureau of Justice Statistics, Department of Justice (DOJ) will be submitting the following information collection request to the Office of Management and Budget (OMB) for review and approval in accordance with the Paperwork Reduction Act of 1995.

DATES: Comments are encouraged and will be accepted for 60 days until May 13, 2024.

FOR FURTHER INFORMATION CONTACT: If you have comments especially on the estimated public burden or associated response time, suggestions, or need a copy of the proposed information collection instrument with instructions or additional information, please contact Todd D. Minton, (email: Todd.Minton@usdoj.gov; telephone: 202-598-7226), Bureau of Justice Statistics, 810 Seventh Street NW, Washington, DC 20531.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including using appropriate automated, electronic, mechanical, or other technological collection techniques or other forms of information technology, e.g., permitting electronic submission of responses.

Abstract: Since 1972, BJS has conducted the Survey of Inmates in Local Jails (SILJ, OMB Number 1121-0098) periodically to gather detailed information on individual characteristics of jail inmates. The purposes of this omnibus survey are to generate reliable, nationally-representative estimates of the characteristics of jail inmates in the United States, track changes in the characteristics of jail inmates over time, conduct studies of jail inmates on special topics, and identify policy-relevant issues related to crime and corrections. This national survey will profile jail inmates nationwide to determine trends in criminal history, substance abuse, mental health, and medical problems of jail inmates, and treatment they may have received for problems, gun use and crime, inmate misconduct, inmate admission fees, and programs and activities inmates participate in while confined in jail. The data are used by a variety of stakeholders, including the U.S. Congress, Executive Office of the President, practitioners, researchers, students, the media, and others interested in criminal justice statistics. No other collection series provides these data on the variety of topics that SILJ covers. The data will be collected through face-to-face personal interviews with the inmates using Computer-Assisted Personal Interviewing (CAPI) technology.

Overview of This Information Collection

1. Type of Information Collection: Reinstatement, with changes, of a previously approved collection for which approval has expired.

2. Title of the Form/Collection: Survey of Inmates in Local Jails (SILJ).

3. Agency form number, if any, and the applicable component of the Department of Justice sponsoring the collection: The applicable component within the Department of Justice is the Bureau of Justice Statistics (BJS), in the Office of Justice Programs.

4. Affected public who will be asked or required to respond, as well as the obligation to respond: County government and City government and jail inmates age 18 or older that are held in local (county and city) jails. The obligation to respond is voluntary.

5. An estimate of the total number of respondents and the amount of time estimated for an average respondent to respond: BJS will sample a maximum of 10,000 inmates from 600 local jails for a total of 15,602 hours. BJS will conduct initial jail outreach with up to 740 jails to participate at 15 minutes per facility for a total of 185 hours in order to gain consent from 600 facilities to participate in the study. A maximum of 600 jails will be contacted for study logistics planning and roster coordination at 75 minutes per facility for a total of 750 hours. During data collection, jail staff will escort a maximum of 10,000 inmates to and from interview sites at 15 minutes per inmate for a total of 2,500 hours. Inmate consent and survey participation total 73 minutes per interview for a total of 12,167 hours.

6. An estimate of the total public burden (in hours) associated with the collection: The estimated total public burden is 15,602 annual hours. This comprises 3,435 hours of facility staff burden and 12,167 hours of respondent interviewing burden.

7. An estimate of the total annual cost burden associated with the collection, if applicable: The estimated cost is $90,450.

2024 SILJ Estimated Annualized Respondent Cost and Hour Burden
Activity | Number of respondents | Frequency | Total annual responses | Time per response (minutes) | Total annual burden (hours)
Facility Recruitment and Logistic:
Introduction and Facility Approval | 740 | 1 | 740 | 15 | 185
Study Logistic Planning | 600 | 1 | 600 | 45 | 450
National Study:
Staff time—Providing inmate roster | 600 | 1 | 600 | 30 | 300
Staff time—Escorting inmates | 10,000 | 1 | 10,000 | 15 | 2,500
Consent—Inmate recruitment | 10,000 | 1 | 10,000 | 3 | 500
Interview—Participate in the SILJ | 10,000 | 1 | 10,000 | 70 | 11,667
Total | 31,940 |  | 31,940 |  | 15,602

If additional information is required, contact: Darwin Arceo, Department Clearance Officer, United States Department of Justice, Justice Management Division, Policy and Planning Staff, Two Constitution Square, 145 N Street NE, 4W-218, Washington, DC.

Dated: March 8, 2024.
Darwin Arceo,
Department Clearance Officer for PRA, U.S. Department of Justice.

[FR Doc. 2024-05349 Filed 3-13-24; 8:45 am]

BILLING CODE 4410-18-P